DEPARTMENT OF HOMELAND SECURITY

Federal Emergency Management Agency

44 CFR Part 67

[Docket No. FEMA-B-7459]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Mitigation Division, Federal Emergency Management Agency, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Federal Emergency Management Agency certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

Flooding source(s) | Location of referenced elevation | *Elevation in feet (NGVD) +Elevation in feet (NAVD) #Depth in feet above ground: Efffective | *Elevation in feet (NGVD) +Elevation in feet (NAVD) #Depth in feet above ground: Modified | Communities affected
Shoshone County, Idaho and Incorporated Areas
Coeur d'Alene River: | At western Shoshone County boundary approximately 800 feet South of Interstate Highway 90 | None | +2149 | Shoshone County Unincorporated Areas.
| At western Shoshone County boundary on the landward side of the levee at community of Cataldo | *2150 | +2155
| Approximately 15,000 feet upstream from the western Shoshone County boundary | None | +2164
South Fork Coeur d'Alene River: | Approximately 1500 feet downstream of Theatre Road | *2221 | 2225 | Shoshone County Unincorporated Areas.
| Just downstream of Elizabeth Park Road Bridge | *2343 | +2343 | City of Kellogg, City of Smelterville.
South Fork Coeur d'Alene River—North Overbank Reach through Kellogg: | At west Brown Avenue west of Utah Street | #3 | +2295 | Shoshone County Unincorporated Areas, City of Kellogg.
| Just north of Interstate Highway 90 after divergence from South Fork Coeur d'Alene River on Cameron Avenue East | #2 | +2310
South Fork Coeur d'Alene River—South Overbank North Swale Reach: | At the City of Kellogg western corporate limit | None | +2243 | Shoshone County Unincorporated Areas, City of Kellogg.
| At divergence from South Fork Coeur d'Alene River. Just upstream of Interstate Highway 90 Bridge | None | +2284
South Fork Coeur d'Alene River—South Overbank Smelterville Reach: | Just South of Interstate Highway 90 bridge approximately 1000 feet upstream of Pine Creek confluence | None | +2198 | Shoshone County Unincorporated Areas.
| At confluence of Government Gulch | None | +2245 | City of Kellogg, City of Smelterville.
South Fork Coeur d'Alene River—South Overbank South Kellogg Reach: | Approximately 1000 feet downstream of Hill Street | None | +2284 | Shoshone County Unincorporated Areas, City of Kellogg.
| Approximately 150 feet downstream of divergence from South Fork Coeur d'Alene River, at Division Street | None | +2310
South Fork Coeur d'Alene River—South Overbank South Swale Reach: | Approximately 1500 feet upstream from western corporated limit of the City of Kellogg. | None | +2251 | Shoshone County Unincorporated Areas, City of Kellogg
| At the confluence of South Overbank Southwest Kellogg Reach | None | +2282
South Fork Coeur d'Alene River—South Overbank Southwest Kellogg Reach: | At confluence with South Overbank South Swale Reach approximately 200 feet downstream of Bunker Avenue | None | +2284 | Shoshone County Unincorporated Areas, City of Kellogg.
| At divergence from South Fork Coeur d'Alene River | None | +2289
ADDRESSES:
Unincorporated areas of Shoshone County:
Maps are available for inspection at the Shoshone County Courthouse, 700 Bank Street, Suite 35, Wallace, Idaho 83873.
Send comments to Chairman Jim Vergobbi, Shoshone County, 700 Bank Street, Suite 120, Wallace, Idaho 83873.
City of Kellogg:
Maps are available for inspection at the City Hall, 1007 McKinley Street, Kellogg, Idaho 83837.
Send comments to Mayor Mac Pooler, City of Kellogg, 1007 McKinley Street, Kellogg, Idaho 83837.
City of Smelterville:
Maps are available for inspection at the City Hall, 501 Main Street, Smelterville, Idaho 83868.
Send comments to Mayor Tom Benson, City of Smelterville, P.O. Box 200, Smelterville, Idaho 83868.
De Soto County, Mississippi and Incorporated Areas
Arkabutla Reservoir | Flood pool | None | +245 | De Soto County (Uninc. Areas).
Bean Patch Creek | At confluence with Camp Creek | None | +273 | De Soto County (Uninc. Areas), City of Southaven.
| At Pleasant Hill Road | *303 | +302
| At College Road | *336 | +328
| 200 feet downstream of Getwell Road | None | +372
Bean Patch Creek Tributary 1 | At confluence with Bean Patch Creek | None | +282 | De Soto County (Uninc. Areas).
| 2444 feet upstream of Sandy Betts Road | None | +331
Bean Patch Creek Tributary 2 | At confluence with Bean Patch Creek | None | +296 | De Soto County (Uninc. Areas).
| 78 feet upstream of Itasca Drive | None | +347
Bean Patch Creek Tributary 3 | At confluence with Bean Patch Creek | None | +303 | De Soto County (Uninc. Areas).
| 1467 feet upstream of College Road | None | +337
Byhalia Creek | At confluence with Pigeon Roost Creek | None | +275 | De Soto County (Uninc. Areas).
| 2638 feet upstream of Myers Road | None | +298
Camp Creek | At confluence with Coldwater River | None | +256 | De Soto County (Uninc. Areas) City of Olive Branch.
| At College Road | *298 | +299 |
| At Goodman Road | *329 | +331
| At Germantown Road | *348 | +346
| At Montrose Drive | None | +361
| 1790 feet upstream of Alexander Road | None | +372
Camp Creek Tributary 1 | At confluence with Camp Creek | None | +273 | De Soto County (Uninc. Areas).
| 180 feet upstream of Ross Road | None | +317
Camp Creek Tributary 2 | At confluence with Camp Creek | None | +292 | De Soto County (Uninc. Areas)
| 170 feet upstream of Dunn Lane | None | +348
Cane Creek Tributary 1 | At confluence with Arkabutla Reservoir | None | +245 | De Soto County (Uninc. Areas).
| 2100 feet upstream of Robertson Gin Road | None | +251
Cane Creek Tributary 1.1 | At confluence with Cane Creek Tributary 1 | None | +245 | De Soto County (Uninc. Areas).
| 4300 feet upstream of confluence with Cane Creek Tributary 1 | None | +245
Coldwater River | 16200 feet downstream of Arkabutla Dam | None | +191 | De Soto County (Uninc. Areas).
| 3318 feet downstream of Arkabutla Dam | None | +195
| 26735 feet downstream of Holly Springs Road | None | +245
| 2010 feet upstream of confluence with Coldwater River Tributary 8 | None | +301
Coldwater River Tributary 5 | At confluence with Coldwater River | None | +279 | De Soto County (Uninc. Areas).
| 2390 feet upstream of Bethel Road | None | +299
Coldwater River Tributary 6 | At confluence with Coldwater River | None | +283 | De Soto County (Uninc. Areas).
| 160 feet downstream of Red Banks Road | None | +308
Coldwater River Tributary 7 | At confluence with Coldwater River | None | +298 | De Soto County (Uninc. Areas).
| 13233 feet upstream of Center Hill Road | None | +365
Coldwater River Tributary 7.1 | At confluence with Coldwater River Tributary 7 | None | +298 | De Soto County (Uninc. Areas).
| 2515 feet upstream of Center Hill Road | None | +341
Coldwater River Tributary 8 | At confluence with Coldwater River | None | +300 | De Soto County (Uninc. Areas).
| 2038 feet upstream of Center Hill Road | None | +365
Coldwater River Tributary 8.1 | At confluence with Coldwater River Tributary 8 | None | +315 | De Soto County (Uninc. Areas).
| 5004 feet upstream of confluence with Coldwater River Tributary 8 | None | +368
Cow Pen Creek | At Goodman Road | *261 | +261 | City of Horn Lake.
| At Nail Road | *275 | +274
Dry Creek | At confluence with Coldwater River | None | +271 | De Soto County (Uninc. Areas).
| 8348 feet upstream of Byhalia Road | None | +303
Horn Lake Creek Tributary 1 | 790 feet upstream of Goodman Road | None | +264 | City of Horn Lake.
| 407 feet upstream of Nail Road | None | +292
Hurricane Creek | 1535 feet upstream of Odom Road | None | +265 | De Soto County (Uninc. Areas), City of Hernando.
| 423 feet upstream of Bridgemore Drive | None | +346
Hurricane Creek Tributary 2 | 1022 feet downstream of Horn Lake Road | None | +245 | De Soto County (Uninc. Areas), City of Hernando.
| 12800 feet upstream of Horn Lake Road | None | +275
Hurricane Creek Tributary 3.1 | 1079 feet downstream of Nesbit Road | None | +262 | De Soto County (Uninc. Areas), City of Hernando, City of Horn Lake, City of Southaven De Soto County (Uninc. Areas).
| 740 feet downstream of Highway 51 | None | +300
Hurricane Creek Tributary 3.1.1 | At confluence with Hurricane Creek Tributary 3.1 | None | +262
| 600 feet upstream of Starlanding Road | None | +297
Hurricane Creek Tributary 3.1.2 | At confluence with Hurricane Creek Tributary 3.1 | None | +291 | De Soto County (Uninc. Areas), City of Southaven.
| 255 feet downstream of Highway 51 | None | +301
Hurricane Creek Tributary 4 | At confluence with Hurricane Creek | None | +266 | De Soto County (Uninc. Areas), City of Hernando.
| 850 feet downstream of Harrow Cove | None | +329
Hurricane Creek Tributary 5 | At confluence with Hurricane Creek | None | +268 | De Soto County (Uninc. Areas), City of Hernando.
| 4236 feet upstream of Pleasant Hill Road | None | +310
Hurricane Creek Tributary 6 | At confluence with Hurricane Creek | None | +273 | De Soto County (Uninc. Areas), City of Hernando.
| 90 feet downstream of Clubhouse Drive | None | +316
Hurricane Creek Tributary 7 | At confluence with Hurricane Creek | None | +284 | De Soto County (Uninc. Areas), City of Southaven.
| 423 feet upstream of Starlanding Road | None | +339
Hurricane Creek Tributary 7.1 | At confluence with Hurricane Creek Tributary 7 | None | +294 | De Soto County (Uninc. Areas), City of Southaven.
| 760 feet upstream of Starlanding Road | None | +354
Hurricane Creek Tributary 8 | At confluence with Hurricane Creek | None | +295 | De Soto County (Uninc. Areas).
| 940 feet upstream of Getwell Road | None | +324
Jackson Creek | 4620 feet upstream of confluence with Lake Cormorant Bayou | None | +200 | De Soto County (Uninc. Areas).
| 712 feet upstream of confluence with Jackson Creek Tributary 1 | None | +201
Jackson Creek Tributary 1 | At confluence with Jackson Creek | None | +201 | De Soto County (Uninc. Areas).
| 4665 feet upstream of Wilson Mills Road | None | +208
Johnson Creek | At confluence with Lake Cormorant Bayou | None | +208 | De Soto County (Uninc. Areas), City of Horn Lake, Village of Memphis.
| 3645 feet upstream of Church Road | None | +249
Johnson Creek Tributary 1 | At confluence with Johnson Creek | None | +208 | De Soto County (Uninc. Areas), Village of Memphis.
| 1810 feet upstream of Cheatham Road | None | +208
Johnson Creek Tributary 2 | At confluence with Johnson Creek | None | +210 | De Soto County (Uninc. Areas), Village of Memphis.
| 300 feet upstream of Starlanding Road | None | +227
Johnson Creek Tributary 3 | At confluence with Johnson Creek | None | +212 | De Soto County (Uninc. Areas), Village of Memphis.
| 1490 feet downstream of Poplar Corner Road | None | +244
Johnson Creek Tributary 4 | At confluence with Johnson Creek | None | +215 | De Soto County (Uninc. Areas), Village of Memphis.
| 4171 feet upstream of Starlanding Road | None | +231
Johnson Creek Tributary 5 | At confluence with Johnson Creek | None | +226 | De Soto County (Uninc. Areas).
| 35 feet upstream of Fogg Road | None | +269
Johnson Creek Tributary 6 | At confluence with Johnson Creek | None | +235 | De Soto County (Uninc. Areas).
| 20 feet upstream of Fogg Road | None | +256
Lake Cormorant Bayou | At Green River Road | None | +200 | De Soto County (Uninc. Areas).
| 500 feet downstream of confluence with Johnson Creek | None | +208
Lateral A | At confluence with Horn Lake Creek | None | +243 | De Soto County (Uninc. Areas), City of Horn Lake, City of Southaven.
| 2506 feet upstream of Goodman Road | None | +276
Lateral A Tributary 1 | At confluence with Lateral A | None | +246 | City of Horn Lake
| 148 feet downstream of Horn Lake Road | None | +259
Licks Creek | At confluence with Camp Creek | *305 | +306 | De Soto County (Uninc. Areas), City of Olive Branch.
| At U.S. Highway 78 | *336 | +334
| At Lancaster Drive | None | +358
| 7700 feet upstream of Hacks Cross Road | None | +388
Mussacuna Creek | 4630 feet downstream of Highway 51 | None | +280 | De Soto County (Uninc. Areas), City of Hernando.
| 1480 feet upstream of Highway 51 | None | +307
Nolehoe Creek | At confluence with Camp Creek | *308 | +308 | City of Olive Branch, City of Southaven.
| At Goodman Road | *348 | +348
Norfolk Bayou | At confluence with Johnson Creek | None | +208 | De Soto County (Uninc. Areas).
| 175 feet downstream of Highway 161 | None | +208
Pigeon Roost Creek | At confluence with Coldwater River | None | +267 | De Soto County (Uninc. Areas)
| 1550 feet downstream of Ingrams Mill Road | None | +277
Red Banks Creek | 4330 feet upstream of Red Banks Road | None | +299 | De Soto County (Uninc. Areas).
| 13140 feet upstream of Red Banks Road | None | +312
Short Creek | At confluence with Coldwater River | None | +267 | De Soto County (Uninc. Areas)
| 9228 feet upstream of Byhalia Road | None | +331
Short Creek Tributary 1 | At confluence with Short Creek | None | +271 | De Soto County (Uninc. Areas).
| 3636 feet upstream of Byhalia Road | None | +297
Short Fork Creek | At confluence with Coldwater River | None | +255 | De Soto County (Uninc. Areas), City of Hernando.
| 2953 feet upstream of Jaybird Road | None | +309
Short Fork Creek Tributary 1 | At confluence with Short Fork Creek | None | +265 | De Soto County (Uninc. Areas).
| 1731 feet upstream of Byhalia Road | None | +341 |
Short Fork Creek Tributary 2 | At confluence with Short Fork Creek | None | +278 | De Soto County (Uninc. Areas).
| 5387 feet upstream of Brights Road | None | +325 |
Short Fork Creek Tributary 3 | At confluence with Short Fork Creek | None | +296 | De Soto County (Uninc. Areas).
| 2594 feet upstream of confluence with Short Fork Creek | None | +304 |
Turkey Creek | At confluence with Camp Creek | None | +287 | De Soto County (Uninc. Areas).
| 758 feet upstream of Woolsly Road | None | +351 |
Whites Creek | 3740 feet upstream of confluence with Lake Cormorant Bayou | None | +199 | De Soto County (Uninc. Areas).
| 7410 feet upstream of Wetonga Lane | None | +234 |
Whites Creek Tributary 1 | At confluence with Whites Creek | None | +224 | De Soto County.
| 2117 feet upstream of confluence with Whites Creek | None | +233 |
ADDRESSES:
Unincorporated Areas of De Soto County:
Maps are available for inspection at 365 Losher Street, Suite 310, Hernando, MS 38632.
Send comments to Mr. Tommy Lewis, President, De Soto County Board of Supervisors, 365 Losher Street, Suite 310, Hernando, MS 38632.
City of Hernando:
Maps are available for inspection at 475 W. Commerce Street, Hernando, MS 38632.
Send comments to the Honorable Chip Johnson, Mayor, City of Hernando, 475 W. Commerce Street, Hernando, MS 38632.
City of Horn Lake:
Maps are available for inspection as 3101 Goodman Road, Horn Lake, MS 38637
Send comments to the Honorable Nat Baker, Mayor, City of Horn Lake, 3101 Goodman Road, Horn Lake, MS 38637.
City of Olive Branch:
Maps are available for inspection at 9189 Pigeon Root, Olive Branch, MS 38654.
Send comments to the Honorable Samuel Rikard, Mayor, City of Olive Branch, 9189 Pigeon Root, Olive Branch, MS 38654.
City of Southaven:
Maps are available for inspection as 8710 Northwest Drive, Southaven, MS 38671.
Send comments to the Honorable Greg Davis, Mayor, City of Southaven, 8710 Northwest Drive, Southaven, MS 38671.
Village of Memphis:
Maps are available for inspection at P.O. Box 35, Walls, MS 38630.
Send comments to the Honorable Gene Alday, Mayor, Town of Walls, P.O. Box 35, Walls, MS 38630.
Ozark County, Missouri and Incorporated Areas
Becky Cobb Creek | Approximately 400 feet upstream of the confluence with Lick Creek | None | +765 | Ozark County (Uninc. Areas), City of Gainesville.
| Approximately 2800 feet downstream of County Road 102 | None | +856 |
Bennetts Bayou | Approximately 9300 feet downstream of Highway 142 | None | +670 | Ozark County (Uninc. Areas), Village of Bakersfield.
| Approximately 1400 feet upstream of the confluence with Unnamed Stream in Smith Hollow | None | +741 |
Harrison Creek | Approximately 1850 feet upstream of the confluence with Lick Creek | None | +749 | Ozark County (Uninc. Areas), City of Gainesville.
| Approximately 4750 feet upstream of First Road | None | +800 |
Hogard Creek | Approximately 500 feet upstream of the confluence with Lick Creek | None | +793 | Ozark County (Uninc. Areas).
| Approximately 8750 feet upstream of the confluence with Lick Creek | None | +856 |
Lick Creek | Approximately 7500 feet downstream of the confluence with Harrison Creek | None | +713 | Ozark County (Uninc. Areas), City of Gainesville.
| Approximately 5350 feet upstream of the confluence with Hogard Creek | None | +818 |
Turkey Creek | Approximately 1000 feet downstream of County Road 632 | None | +698 | Ozark County (Uninc. Areas).
| Approximately 100 feet downstream of Highway 160 | None | +806 |
Unnamed Stream in Ledbetter Hollow | Approximately 4850 feet upstream of the confluence with Pond Fork | None | +698 | Ozark County (Uninc. Areas).
| Approximately 700 feet downstream of Highway 95 | None | +811 |
Unnamed Stream in Plumb Hollow | Approximately 1350 feet upstream of the confluence with Bennetts Bayou | None | +714 | Ozark County (Uninc. Areas), Village of Bakersfield.
| Approximately 1200 feet upstream of Highway 101 | None | +769 |
Unnamed Stream in Smith Hollow | Approximately 500 feet upstream of the confluence with Bennetts Bayou | None | +740 | Ozark County (Uninc. Areas).
| Approximately 2400 feet upstream of the confluence with Bennetts Bayou | None | +755 |
ADDRESSES:
Unincorporated Areas of Ozark County:
Maps are available for inspection at Ozark County Courthouse, Gainesville, MO 65655.
Send comments to the Mr. Dave Morrision, Presiding Commissioner, Ozark County, P.O. Box 247, Gainesville, MO 65655.
City of Gainesville:
Maps are available for inspection at 4th and Harlin, Gainesville, MO 65655.
Send comments to the Honorable Tracey Amyx, Mayor, City of Gainesville, 4th and Harlin, Gainesville, MO 65655.
Village of Bakersfield:
Maps are available for inspection at 112 Watertower, Bakersfield, MO 65609.
Send comments to the Honorable Tony Johnson, Mayor, Village of Bakersfield, 112 Watertower, Bakersfield, MO 65609.
Laramie County, and Incorporated Areas
Allison Draw | At Confluence with Crow Creek | None | +5949 | Laramie County (Uninc. Areas).
| At West College Drive | None | +6017 |
South Fork Allison Draw | At Confluence with Allison Draw | None | +5993 | Laramie County (Uninc. Areas).
| At East College Drive | None | +6000 |
ADDRESSES:
Unincorporated Areas of Laramie County:
Maps are available for inspection at Laramie County Planning Department, 310 West 19th Street, Suite 400, Cheyenne, WY 82001.
Send comments to Commissioner Diane Humphrey, Chairman, Board of Commissioners, 310 West 19th Street, Suite 300, Cheyenne, WY 82001.
* National Geodetic Vertical Datum.
+ North American Vertical Datum.
# Depth in feet above ground.

(Catalog of Federal Domestic Assistance No. 83.100, “Flood Insurance.”)

David I. Maurstad,
Acting Director, Mitigation Division, Federal Emergency Management Agency, Department of Homeland Security.

[FR Doc. E6-4817 Filed 4-3-06; 8:45 am]

BILLING CODE 9110-12-P